ENVIRONMENTAL PROTECTION AGENCY

[EPA-HQ-OAR-2013-0119; FRL 9532-6]

Information Collection Request Submitted to OMB for Review and Approval; Comment Request; Motor Vehicle and Engine Compliance Program Fees (Renewal)

AGENCY: Environmental Protection Agency (EPA).

ACTION: Notice.

SUMMARY: The Environmental Protection Agency has submitted an information collection request (ICR), Motor Vehicle and Engine Compliance Program Fees (Renewal) (EPA ICR No.2080.05, OMB Control No. 2060-0545, to the Office of Management and Budget (OMB) for review and approval in accordance with the Paperwork Reduction Act (44 U.S.C. 3501 et seq.). This is a proposed extension of the ICR, which is currently approved through September 30, 2013. Public comments were previously requested via the Federal Register (78 FR 15010) on March 8, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before October 15, 2013.

ADDRESSES: Submit your comments, referencing Docket ID Number EPA-HQ-OAR-2013-0019 to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Lynn Sohacki, Compliance Division, Office of Transportation and Air Quality, U.S. Environmental Protection Agency, 2000 Traverwood, Ann Arbor, Michigan 48105; telephone number: 734-214-4851; fax number 734-214-4869; email address: sohacki.lynn@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: As required by the Clean Air Act, EPA has regulations establishing emission standards and other requirements for various classes of vehicles, engines, and evaporative emissions. These regulations require that compliance be demonstrated prior to EPA granting a “Certificate of Conformity.” EPA charges fees for administering this certification program. In 2004, the fees program was expanded to include non-road categories of vehicles and engines, such as several categories of marine engines, locomotives, non-road recreational vehicles, and many non-road compression-ignition and spark-ignition engines. In 2008, the fees program was further expanded to include fees for certification of evaporative system components (primarily fuel lines and fuel tanks). Manufacturers and importers of covered vehicles, engines and components are required to pay the applicable certification fees prior to their certification applications being reviewed. Under section 208 of the Clean Air Act (42 U.S.C. 7542(c)) all information, other than trade secret processes or methods, must be publicly available. Information about fee payments is treated as confidential information prior to certification.

Form Numbers: EPA Forms 3520-29.

Respondents/affected entities: Manufacturers or importers of passenger cars, motorcycles, light trucks, heavy duty truck engines, non-road vehicles or engines, and evaporative emissions components required to receive a certificate of conformity from EPA prior to selling or introducing these products into commerce in the U.S.

Respondent's obligation to respond: Required to obtain or retain a benefit (40 CFR Part 1027)

Estimated number of respondents: 583 (total).

Frequency of response: Yearly and Occasionally.

Total estimated burden: 1,513 hours (per year). Burden is defined at 5 CFR 1320.03(b)

Total estimated cost: $112,873 (per year), which includes $24,623 annualized capital or operation & maintenance costs.

Changes in the Estimates: There is increase of 306 hours in the total estimated respondent burden compared with the ICR currently approved by OMB. This increase is due to an adjustment of the estimate entirely due to the increased number of fee forms received from an increased number of manufacturers.

John Moses,
Director, Collection Strategies Division.

[FR Doc. 2013-22220 Filed 9-11-13; 8:45 am]

BILLING CODE 6560-50-P